UNITED STATES SENTENCING COMMISSION

Final Priorities for Amendment Cycle

AGENCY: United States Sentencing Commission.

ACTION: Notice of final priorities.

SUMMARY: In June 2024, the Commission published a notice of proposed policy priorities for the amendment cycle ending May 1, 2025. After reviewing public comment received pursuant to the notice of proposed priorities, the Commission has identified its policy priorities for the upcoming amendment cycle and hereby gives notice of these policy priorities.

FOR FURTHER INFORMATION CONTACT: Jennifer Dukes, Senior Public Affairs Specialist, (202) 502-4597.

SUPPLEMENTARY INFORMATION: The United States Sentencing Commission is an independent agency in the judicial branch of the United States Government. The Commission promulgates sentencing guidelines and policy statements for federal courts pursuant to 28 U.S.C. 994(a). The Commission also periodically reviews and revises previously promulgated guidelines pursuant to 28 U.S.C. 994(o) and submits guideline amendments to Congress not later than the first day of May each year pursuant to 28 U.S.C. 994(p).

In June 2024, the Commission asked members of the public and stakeholders in the criminal justice system to tell the Commission what policymaking, research, and operational work it should conduct in the amendment cycle ending May 1, 2025. See 89 FR 48029 (June 4, 2024). The Commission received a tremendous amount of input from across the country, including more than 1,200 pages of comments. The Commission is grateful to the many judges, members of Congress, executive branch agencies, probation officers, advisory groups, attorneys, professors, advocates, organizations, and incarcerated individuals who took the time to provide such thoughtful ideas that aim to make federal sentencing fairer and more just. While the Commission received a wide array of comments, there were a clear set of themes among them, including the following:

(1) Simplifying the guidelines and clarifying their role in sentencing, including revising the “categorical approach” for purposes of the career offender guideline and possibly amending the Guidelines Manual to address the three-step process set forth in § 1B1.1 (Application Instructions) and the use of departures and policy statements relating to specific personal characteristics.

(2) Reducing the costs of unnecessary incarceration.

(3) Promoting public safety.

(4) Improving community supervision.

(5) Expanding the Commission's use of expertise, evidence, and best practices.

(6) Promoting evidence-based approaches to offense and individual characteristics.

While the Commission will continue to evaluate all the ideas it has received, the Commission is committed to prioritizing—during the upcoming amendment cycle and beyond—one or more of these themes, as well as implementing any legislation warranting Commission action and resolving circuit conflicts pursuant to the Commission's authority under 28 U.S.C. 991(b)(1)(B) and Braxton v. United States, 500 U.S. 344 (1991). In prioritizing some themes, the Commission may submit related guideline amendments to Congress not later than May 1, 2025. In prioritizing other themes, the Commission may use issues for comment, workshops, roundtables, conferences, and other tools to solicit input about what, if any, action the Commission should take in the future.

(Authority: 28 U.S.C. 994(a), (o); USSC Rules of Practice and Procedure 2.2, 5.2.)

Carlton W. Reeves,
Chair.

[FR Doc. 2024-18089 Filed 8-13-24; 8:45 am]

BILLING CODE 2210-40-P